DEPARTMENT OF COMMERCE

National Institute of Standards and Technology

Government Owned Invention Placed in Public Domain

AGENCY: National Institute of Standards and Technology Commerce, Commerce.

ACTION: Notice of government owned invention placed in public domain.

SUMMARY: The domestic rights in the United States to the invention listed below are owned by the U.S. Government as represented by the Department of Commerce. The invention is being placed in the public domain for free access and use within the United States.

FOR FURTHER INFORMATION CONTACT: Technical information on this invention may be obtained by writing to: National Institute of Standards and Technology, Technology Partnerships Division, Attn: Mary Clague, Building 820, Room 213, Gaithersburg, MD 20899. Information is also available via telephone: 301-975-4188, e-mail: mclague@nist.gov, or fax: 301-869-2751. Any request for information should include the NIST Docket number and title for the invention as indicated below.

The available invention is:

[Docket No.: 03-001PA]

Title: Packet Convergence Layer for Hiperaccess.

Abstract: This invention provides a convergence layer for packet services, e.g. IP or Ethernet, that greatly facilitates harmonization while being slightly more efficient that transporting IP over ATM over HA.

Dated: June 23, 2003.
Karen H. Brown,
Deputy Director.

[FR Doc. 03-16478 Filed 6-27-03; 8:45 am]

BILLING CODE 3510-13-P